COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add a product and services to the Procurement List that will be furnished by nonprofit agencies employing persons who are blind or have other severe disabilities, and deletes products and services previously furnished by such agencies.

Comments Must Be Received on or Before: 5/9/2011.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

Cotter Pin Assortment

NSN: 5315-00-598-5916.

NPA: Good Vocations, Inc., Macon, GA.

Contracting Activity: General Services Administration, Fort Worth, TX.

Coverage: B-List for the Broad Government requirement as aggregated by the General Services Administration.

Services

Service Type/Location: Janitorial Service. U.S. Army Corps of Engineers Records Holding Area (RHA), Transatlantic Programs Center, 188 Brooke Road, Winchester, VA.

NPA: NW Works, Inc., Winchester, VA.

Contracting Activity: Dept of the Army, W31R Endiv Transatlantic, Winchester, VA.

Service Type/Service Location: Base Operation Support Service. Department of Logistics, Fort George D. Meade, MD.

NPA: Skookum Educational Programs, Bremerton, WA.

Contracting Activity: Department of the Army, Mission and Installation Contracting Command, Fort Eustis, VA.

Service Type/Service Location: Facilities Maintenance Service. United States Coast Guard Cutter MACKINAW Vessel and Shore Facility, Cheboygan, MI.

NPA: Grand Traverse Industries, Inc., Traverse City, MI.

Contracting Activity: United States Coast Guard Maintenance & Logistics Command—Atlantic, Norfolk, VA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Anti-fatigue Mat, Recycled content

NSN: 7220-01-582-6232—Gray 2x3′.

NSN: 7220-01-582-6234—Gray 3x5′.

NPA: Wiscraft, Inc., Milwaukee, WI.

Contracting Activity: General Services Administration, Fort Worth, TX.

Services

Service Types/Locations:

Janitorial/Custodial. Veterans Integrated Support Network 16, Ridgeland, MS.

Administrative Services. Veterans Affairs Medical Center, 1500 East Woodrow Wilson Drive, Jackson, MS.

NPA: Goodwill Industries of Mississippi, Inc., Ridgeland, MS

Contracting Activity: Department of Veterans Affairs, NAC, Hines, IL.

Barry S. Lineback,
Director, Business Operations.

[FR Doc. 2011-8386 Filed 4-7-11; 8:45 am]

BILLING CODE 6353-01-P